DEPARTMENT OF AGRICULTURE

Food Safety and Inspection Service

[Docket No. FSIS-2017-0041]

Codex Alimentarius Commission: Ad Hoc Codex Intergovernmental Task Force on Antimicrobial Resistance

AGENCY: Office of the Deputy Under Secretary for Food Safety, USDA.

ACTION: Notice of public meeting and request for comments.

SUMMARY: The Office of the Deputy Under Secretary for Food Safety, U.S. Department of Agriculture (USDA), and the Food and Drug Administration (FDA), are sponsoring a public meeting on November 7, 2017. The objective of the public meeting is to provide information and receive public comments on agenda items and draft United States (U.S.) positions to be discussed at the 5th Session of the Ad Hoc Codex Intergovernmental Task Force on Antimicrobial Resistance (TFAMR) of the Codex Alimentarius Commission (Codex), taking place in Jeju, Republic of Korea, November 27, 2017 through December 1, 2017. The Deputy Under Secretary for Food Safety and the FDA recognize the importance of providing interested parties with the opportunity to obtain background information on the 5th Session of the TFAMR and to address items on the agenda.

DATES: The public meeting is scheduled for Tuesday, November 7, 2017, from 1:00 p.m.-4:00 p.m.

ADDRESSES: The public meeting will take place at the United States Department of Agriculture (USDA), Jamie L. Whitten Building, 1400 Independence Avenue SW., Room 107-A, Washington, DC 20250.

Documents related to the 5th Session of the TFAMR will be accessible via the Internet at the following address: http://www.codexalimentarius.org/meetings-reports/en/.

Donald Prater, U.S. Delegate to the 5th Session of the TFAMR, invites U.S. interested parties to submit their comments electronically to the following email address: donald.prater@fda.hhs.gov.

Call-in-Number

If you wish to participate in the public meeting for the 5th Session of the TFAMR by conference call, please use the call-in-number below:

Call-in-Number: 1-888-844-9904.

Access Code: 5126092.

Registration

Attendees may register to attend the public meeting by emailing kenneth.lowery@fsis.usda.gov by November 3, 2017. Early registration is encouraged as it will expedite entry into the building. The meeting will be held in a Federal building. Attendees should bring photo identification and plan for adequate time to pass through security screening systems. Attendees who are not able to attend the meeting in person, but wish to participate may do so by phone.

For Further Information About The 5th Session of the TFAMR Contact: The Office of Foods and Veterinary Medicine, FDA, 10903 New Hampshire Avenue, Silver Spring, MD 20993, Email: donald.prater@fda.hhs.gov.

For Further Information About The Public Meeting Contact: Kenneth Lowery, U.S. Codex Office, 1400 Independence Avenue SW., Room 4861, Washington, DC 20250, Telephone: (202) 690-4042, Fax: (202) 720-3157, Email: kenneth.lowery@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, the Codex seeks to protect the health of consumers and ensure fair practices in the food trade.

The TFAMR is responsible for:

(a) Reviewing and revising as appropriate the Code of Practice to Minimize and Contain Antimicrobial Resistance (CAC/RCP 61-2005) to address the entire food chain, in line with the mandate of Codex.

(b) Considering the development of Guidance on Integrated Surveillance of Antimicrobial Resistance, taking into account the guidance developed by the WHO Advisory Group on Integrated Surveillance of Antimicrobial Resistance (AGISAR) and relevant the World Organization for Animal Health (OIE) documents.

The Committee is hosted by the Republic of Korea.

Issues To Be Discussed at the Public Meeting

The following items on the Agenda for the 5th Session of the TFAMR will be discussed during the public meeting:

• Matters referred by Codex and other Subsidiary Bodies;

• Matters arising from the work of the FAO, WHO and other international intergovernmental organizations:

(a) Progress report on the request for scientific advice on foodborne antimicrobial resistance from the FAO and WHO in collaboration with OIE.

(b) Information on the work of the FAO, WHO, OIE and other relevant international organizations on antimicrobial resistance.

• Proposed draft revision of the Code of Practice to Minimize and Contain Antimicrobial Resistance (CAC/RCP 61-2005); and

• Proposed draft Guidelines on integrated surveillance of antimicrobial resistance.

Each issue listed will be fully described in documents distributed, or to be distributed, by the Secretariat before the Meeting. Members of the public may access or request copies of these documents (see ADDRESSES).

Public Meeting

At the November 7, 2017, public meeting, draft U.S. positions on the agenda items will be described and discussed, and attendees will have the opportunity to pose questions and offer comments. Written comments may be offered at the meeting or sent to Donald Prater for the 5th Session of the TFAMR (see ADDRESSES). Written comments should state that they relate to activities of the 5th Session of the TFAMR.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on September 29, 2017.
Paulo Almeida,
Acting U.S. Manager for Codex Alimentarius.

[FR Doc. 2017-21347 Filed 10-3-17; 8:45 am]

BILLING CODE 3410-DM-P